DEPARTMENT OF COMMERCE

National Oceanic and Atmospheric Administration

[Docket No. 050906238-5243-02; I.D. 090705E]

RIN 0648-ZB68

2006 Monkfish Research Set-Aside Program

AGENCY: National Marine Fisheries Service (NMFS), National Oceanic and Atmospheric Administration (NOAA), Commerce.

ACTION: Notice; solicitation for proposals for research activities; correction.

SUMMARY: NMFS corrects the notice, published on September 13, 2005, soliciting proposals for research activities to be conducted under the 2006 Monkfish Research Set-Aside (RSA) Program to be consistent with the full Federal Funding Opportunity Announcement (FFO). Specifically, NMFS is correcting the “Evaluation Criteria” contained in the September 13, 2005, notice to be consistent with the “Evaluation Criteria” contained in the FFO. All other requirements remain the same.

DATES: Applications must be received on or before 5 p.m. eastern standard time on October 13, 2005. Delays may be experienced when registering with Grants.gov near the end of a solicitation period. Therefore, NOAA strongly recommends that applicants do not wait until the deadline date to begin the application process through http://www.grants.gov.

ADDRESSES: Electronic application submissions must be transmitted on-line through http://www.grants.gov. Applications submitted through http://www.grants.gov will be accompanied by a date and time receipt indication on them. If an applicant does not have Internet access, hard copy proposals will be accepted, and date recorded when they are received in the program office. Paper applications must be sent to NMFS, Northeast Regional Office, One Blackburn Drive, Gloucester, MA 01930. Electronic or hard copies received after the deadline will not be considered, and hard copy applications will be returned to the sender.

FOR FURTHER INFORMATION CONTACT: Information may be obtained from Paul Howard, Executive Director, New England Fishery Management Council (NEFMC), by phone 978-465-0492, or by fax 978-465-3116; Philip Haring, Senior Fishery Analyst, NEFMC, by phone 978-465-0492, or by e-mail at pharing@nefmc.org; or Allison Ferreira, Fishery Policy Analyst, NMFS, by phone 978-281-9103, by fax 978-281-9135, or by e-mail at allison.ferreira@noaa.gov.

SUPPLEMENTARY INFORMATION:

Background

On September 13, 2005, NMFS published a notice in the Federal Register announcing the 2006 Monkfish RSA Program (70 FR 54028). This program, established through Amendment 2 to the Monkfish Fishery Management Plan (FMP) to annually set aside 500 monkfish days-at-sea (DAS) from the total DAS allocated to limited access monkfish permit holders, is to be utilized for monkfish related research activities. The September 13, 2005, notice also solicited proposals for monkfish research activities to be conducted under this RSA program. However, the “Evaluation Criteria” listed on pages 54029 and 54030 of the Federal Register notice did not include all of the information contained in the “Evaluation Criteria” listed in the FFO. Therefore, in order to make the Federal Register notice announcing the 2006 Monkfish RSA Program consistent with the FFO for the Monkfish RSA Program, NMFS corrects the “Evaluation Criteria” contained in the September 13, 2005, Federal Register notice to read as follows:

1. Importance and/or relevance and applicability of the proposed project: This criterion ascertains whether there is intrinsic value in the proposed work and/or relevance to NOAA, Federal, regional, state, or local activities. For the 2006 Monkfish RSA Program, provide a clear definition of the problem, need, issue, or hypothesis to be addressed. The proposal should describe its relevance to RSA program priorities and detail how the data gathered from the research will be used to enhance the understanding of the fishery resource or contribute to the body of information on which management decisions are made. If not directly related to priorities listed in this solicitation, provide justification why the proposed project should be considered. (25 points)

2. Technical/scientific merit: This criterion assesses whether the approach is technically sound and/or innovative, if the methods are appropriate, and whether there are clear project goals and objectives. Special emphasis will be given to proposals that foster and improve cooperative interactions with NMFS. A clear definition of the approach to be used including description of field work, theoretical studies, and laboratory analysis to support the proposed research, and the ability of the applicant to utilize all allocated research DAS during the 2006 fishing year in the area and time proposed is important. The time frame for utilizing research DAS and conducting the proposed research should be clearly specified. Activities that take place over a wider versus narrower geographical range, where appropriate, are preferred. (25 points)

3. Overall qualifications of the project: This criterion assesses whether the applicant, and team members, posses the necessary education, experience, training, facilities, and administrative resources to accomplish the project. This includes demonstration of support, cooperation and/or collaboration with the fishing industry, and qualifications/experience of project participants. Where appropriate, combined proposals involving multiple principal investigators are preferred versus separate stand-alone proposals on related projects. For proposals involving multiple vessels, special attention will be given to specification of safeguards to ensure that the authorized DAS set-aside will not be exceeded. (15 points)

4. Project costs: This criterion evaluates the budget to determine if it is realistic and commensurate with the project needs and time frame. Cost-effectiveness of the project is considered. The anticipated revenue from the DAS set-aside should be commensurate with estimated project costs, and generally should not exceed 2.5 times the cost of the associated research. Economic and budget projections should be quantified, to the extent possible. Where appropriate, use of existing equipment (fishing gear) is preferred versus acquisition of new equipment. (25 points)

5. Outreach and education: This criterion assesses whether the project involves a focused and effective education and outreach strategy regarding NOAA's mission to protect the Nation's natural resources. This includes identification of anticipated benefits, potential users, likelihood of success, and methods of disseminating results. Where appropriate, data generated from the research must be formatted in a manner consistent with NMFS and Atlantic Coastal Cooperative Statistics Program (ACCSP) databases. A copy of this format is available from NMFS. (10 points)

All other requirements for this solicitation remain the same.

Classification

Paperwork Reduction Act (PRA)

This document contains collection-of-information requirements subject to the PRA. The use of Standard Forms 424, 424A, 424B, SF-LLL, 269, 272, and CD-346 has been approved by the Office of Management and Budget (OMB) under the respective control numbers 0348-0043, 0348-0044, 0348-0040, 0348-0046, 0348-0039, 0348-0003, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) do not apply. Therefore, a regulatory flexibility analysis has not been prepared.

Authority: 16 U.S.C. 1801 et seq.

Dated: September 26, 2005.
James W. Balsiger,
Acting Deputy Assistant Administrator for Regulatory Programs, National Marine Fisheries Service.

[FR Doc. 05-19501 Filed 9-28-05; 8:45 am]

BILLING CODE 3510-22-S